NATIONAL SCIENCE FOUNDATION

Agency Information Collection Activities: Proposed Collection; Comment Request; Correction

AGENCY: National Science Foundation.

ACTION: Notice; correction.

SUMMARY: The National Science Foundation (NSF) published a document in the Federal Register of January 31, 2011, concerning request for comments on a proposed information collection. The document contained a typographical error for the information collection.

FOR FURTHER INFORMATION CONTACT: Suzanne Plimpton on (703) 292-7556 or send E-mail to splimpto@nsf.gov. Individuals who use a telecommunications device for the deaf (TDD) may call the Federal Information Relay Service (FIRS) at 1-800-877-8339 between 8 a.m. and 8 p.m., Eastern time, Monday through Friday.

Correction

In the Federal Register of January 31, 2011, in FR Doc. 2011-1960, on page 5406, first column, correct the first paragraph under B. Use of the Information, to read:

1. National Science Foundation—Polar Physical Examination (Antarctica/Arctic/Official Visitors) Medical History, will be used by the individual to record the individual's personal medical history. It is a five-page form * * *

Also in the Federal Register of January 31, 2011, in FR Doc. 2011-1960, on page 5407, third column, correct the first paragraph under B. Use of the Information, to read:

1. National Science Foundation—Polar Physical Examination (Antarctica/Arctic/Official Visitors) Medical History, will be used by the individual to record the individual's personal medical history. It is a five-page form * * *

Dated: February 11, 2011.
Suzanne H. Plimpton,
Reports Clearance Officer, National Science Foundation.

[FR Doc. 2011-3676 Filed 2-17-11; 8:45 am]

BILLING CODE 7555-01-P